DEPARTMENT OF TRANSPORTATION

Federal Aviation Administration

[Summary Notice No. PE-2005-68]

Petitions for Exemption; Dispositions of Petitions Issued

AGENCY: Federal Aviation Administration (FAA), DOT.

ACTION: Notice of disposition of prior petition.

SUMMARY: Pursuant to FAA's rulemaking provisions governing the application, processing, and disposition of petitions for exemption, part 11 of Title 14, Code of Federal Regulations (14 CFR), this notice contains the disposition of certain petitions previously received. The purpose of this notice is to improve the public's awareness of, and participation in, this aspect of FAA's regulatory activities. Neither publication of this notice nor the inclusion or omission of information in the summary is intended to affect the legal status of any petition or its final disposition.

FOR FURTHER INFORMATION CONTACT: Tim Adams (202) 267-8033, Sandy Buchanan-Sumter (202) 267-7271, or John Linsenmeyer (202) 267-5174, Office of Rulemaking (ARM-1), Federal Aviation Administration, 800 Independence Avenue, SW., Washington, DC 20591.

This notice is published pursuant to 14 CFR 11.85 and 11.91.

Issued in Washington, DC, on December 28, 2005.
Anthony F. Fazio,
Director, Office of Rulemaking.

Disposition of Petitions

Docket No.: FAA-2005-22385.

Petitioner: The Boeing Company.

Sections of 14 CFR Affected: 14 CFR 25.1447(c)(1).

Description of Relief Sought/Disposition: To allow relief from the requirement for passenger oxygen masks to be automatically presented before the cabin pressure altitude exceeds 15,000 feet for the Boeing Model 737NG aircraft. Grant of Exemption, 12/02/2005, Exemption No. 8668.

Docket No.: FAA-2005-22961

Petitioner: Mr. Joseph Weisbrod .

Sections of 14 CFR Affected: 4 CFR 65.104(a)(2).

Description of Relief Sought/Disposition: To allow Mr. Joseph Weisbrod to apply for a repairman certificate for a Cassutt IIIM aircraft when the repairman certificate for this aircraft had been issued to the aircraft's co-builder. Grant of Exemption, 12/02/2005, Exemption No. 8669.

Docket No.: FAA-2001-10475.

Petitioner: Air Transport Association of America, Inc.

Sections of 14 CFR Affected: 14 CFR 45.11(a) and (d), 91.417(d), and paragraph (d) of appendix B to part 43.

Description of Relief Sought/Disposition: To allow certain aircraft to be operated without complying with the requirements pertaining to (1) the location of the aircraft identification plates and (2) carriage of the Federal Aviation Administration Form 337 as evidence of installation approval for fuel tank installations in the passenger or baggage compartment. Grant of Exemption, 12/07/2005, Exemption No. 4902J.

Docket No.: FAA-2005-21913.

Petitioner: Professional Aviation Maintenance Association.

Sections of 14 CFR Affected: 14 CFR 65.93(a).

Description of Relief Sought/Disposition: To allow attendees of the annual Professional Aviation Maintenance Association Convention an extra 15 days to submit evidence of compliance with part 65.91(c)(1) through (4) for renewal of their Inspection Authorization. Denial of Exemption, 12/08/2005, Exemption No. 8670.

Docket No.: FAA-2005-22555.

Petitioner: Gulfstream Aerospace Corporation.

Sections of 14 CFR Affected: 14 CFR 21.231(a)(1).

Description of Relief Sought/Disposition: To allow Gulfstream to apply for Delegation Option Authorization for type, production, and airworthiness certification of transport category airplanes. Grant of Exemption, 12/08/2005, Exemption No. 8671.

Docket No.: FAA-2001-10283.

Petitioner: Butler Aircraft/TBM, Inc.

Sections of 14 CFR Affected: 14 CFR 91.529(a)(1).

Description of Relief Sought/Disposition: To allow Butler Aircraft/TBM, Inc., to operate its Boeing Douglas DC-6 and DC-7 airplanes without a flight engineer during flightcrew training, ferry operations, and test flights that are conducted to prepare for firefighting operations. Grant of Exemption, 12/13/2005, Exemption No. 2989M.

Docket No.: FAA-2002-11499.

Petitioner: Mr. Randy L. Bailey.

Sections of 14 CFR Affected: 14 CFR 91.109(a) and (b)(3).

Description of Relief Sought/Disposition: To allow Mr. Randy L. Bailey to conduct certain flight instruction and simulated instrument flights to meet the recent experience requirements in Beechcraft airplanes equipped with a functioning throwover control wheel in place of functioning dual controls. Grant of Exemption, 12/13/2005, Exemption No. 7734B.

Docket No.: FAA-2003-16561.

Petitioner: Wings Airways.

Sections of 14 CFR Affected: 14 CFR 135.203(a)(1).

Description of Relief Sought/Disposition: To allow Wings Airways to operate under visual flight rules outside controlled airspace over water at an altitude below 500 feet. Grant of Exemption, 12/13/2005, Exemption No. 8185A.

Docket No.: FAA-2001-10605.

Petitioner: United Air Lines, Inc.

Sections of 14 CFR Affected: 14 CFR 121.440(a) and Special Federal Aviation Regulation 58, paragraph 6(b)(3)(ii)(A).

Description of Relief Sought/Disposition: To allow United Air Lines, Inc. to meet line check requirements using an alternative line check program. Grant of Exemption, 12/13/2005, Exemption No. 3451O.

Docket No.: FAA-2002-13581.

Petitioner: TransNorthern LLC.

Sections of 14 CFR Affected: 14 CFR 43.3(a), 43.3(g), 121.709(b)(3), and 135.443(b)(3).

Description of Relief Sought/Disposition: To allow certificated and appropriately trained pilots employed by TransNorthern LLC to remove and reinstall passenger seats. Grant of Exemption, 12/19/2005, Exemption No. 8233A.

[FR Doc. E5-8266 Filed 1-3-06; 8:45 am]

BILLING CODE 4910-13-P